DEPARTMENT OF DEFENSE

Office of the Secretary

32 CFR Part 323

[Docket ID: DOD-2019-OS-0110]

RIN 0790-AK69

Defense Logistics Agency Privacy Program

AGENCY: Defense Logistics Agency, Department of Defense (DoD).

ACTION: Final rule.

SUMMARY: This final rule removes DoD's regulation concerning the Defense Logistics Agency Privacy Program. On April 11, 2019, the Department of Defense published a revised DoD-level Privacy Program rule, which contains the necessary information for an agency-wide privacy program regulation under the Privacy Act and now serves as the single Privacy Program rule for the Department. That revised Privacy Program rule also includes all DoD component exemption rules. Therefore, this part is now unnecessary and may be removed from the CFR.

DATES: This rule is effective on October 1, 2021.

FOR FURTHER INFORMATION CONTACT: Lew Oleinick at 703-767-6194.

SUPPLEMENTARY INFORMATION: DoD now has a single DoD-level Privacy Program rule at 32 CFR part 310 (84 FR 14728) that contains all the codified information required for the Department. The Defense Logistics Agency Program regulation at 32 CFR part 323, last updated on July 9, 2015 (80 FR 39381), is no longer required and can be removed.

It has been determined that publication of this CFR part removal for public comment is impracticable, unnecessary, and contrary to public interest since it is based on the removal of policies and procedures that are either now reflected in another CFR part, 32 CFR part 310, or are publicly available on the Department's website. To the extent that the Defense Logistics Agency internal guidance concerning the implementation of the Privacy Act within the Defense Logistics Agency is necessary, it will be issued in an internal document.

This rule is one of 20 separate component Privacy rules. With the finalization of the DoD-level Privacy rule at 32 CFR part 310, the Department is eliminating the need for this separate component Privacy rule and reducing costs to the public as explained in the preamble of the DoD-level Privacy rule published on April 11, 2019, at 84 FR 14728.

This rule is not significant under Executive Order 12866, “Regulatory Planning and Review.”

List of Subjects in 32 CFR Part 323

Privacy.

PART 323—[REMOVED]

Accordingly, by the authority of 5 U.S.C. 301, 32 CFR part 323 is removed.

Dated: September 27, 2021.
Aaron T. Siegel,
Alternate OSD Federal Register Liaison Officer, Department of Defense.

[FR Doc. 2021-21344 Filed 9-30-21; 8:45 am]

BILLING CODE 5001-06-P